DEPARTMENT OF TRANSPORTATION

Federal Aviation Administration

Notice of Intent To Rule on Application To Impose and Use the Revenue From a Passenger Facility Charge (PFC) at Pago Pago International Airport, Pago Pago, American Samoa

AGENCY: Federal Aviation Administration (FAA), DOT.

ACTION: Notice of intent to rule on application.

SUMMARY: The FAA proposes to rule and invites public comment on the application to impose and use the revenue from a PFC at Pago Pago International Airport under the provisions of the Aviation Safety and Capacity Expansion Act of 1990 (Title IX of the Omnibus Budget Reconciliation Act of 1990) (Pub. L. 101-508) and part 158 of the Federal Aviation Regulations (14 CFR part 158).

DATES: Comments must be received on or before May 23, 2001.

ADDRESSES: Comments on this application may be mailed or delivered in triplicate to the FAA at the following address: Federal Aviation Administration, Airports Division, 15000 Aviation Blvd., Room 3024, Lawndale, CA 90261, or Honolulu Airports District Office, Federal Building, 300 Ala Moana Blvd., Room 7-128, Honolulu, HI, 96813. In addition, one copy of any comments submitted to the FAA must be mailed or delivered to Mr. Abe Malae, Director, Department of Port Administration, American Samoa Government, at the following address: P.O. Box 639, Pago Pago, American Samoa, 96799. Air carriers and foreign air carriers may submit copies of written comments previously provided to the Department of Port Administration, American Samoa Government under section 158.23 of part 158.

FOR FURTHER INFORMATION CONTACT: Mr. Steven Wong, Project Engineer, Honolulu Airports District Office, 300 Ala Moana Blvd., Room 7-128, Honolulu, HI, 96813, Telephone: (808) 541-1225. The application may be reviewed in person at this same location.

SUPPLEMENTARY INFORMATION: The FAA proposes to rule and invites public comment on the application to impose and use the revenue from a PFC at Pago Pago International Airport under the provisions of the Aviation Safety and Capacity Expansion Act of 1990 (Title IX of the Omnibus Budget Reconciliation Act of 1990) (Pub. L. 101-508) and part 158 of the Federal Aviation Regulations (14 CFR part 158).

On March 28, 2001, the FAA determined that the application to impose and use the revenue from a PFC submitted by the American Samoa Government was substantially complete within the requirements of section 158.25 of part 158. The FAA will approve or disapprove the application, in whole or in part, no later than June 28, 2001.

The following is a brief overview of the impose and use application number 01-02-C-00-PPG:

Level of proposed PFC: $4.50.

Charge effective date: September 1, 2001.

Proposed charge expiration date: June 1, 2003.

Total estimated PFC revenue: $765,000.

Brief description of the proposed project: Terminal Improvements.

Class or classes of air carriers which the public agency has requested not be required to collect PFCs: None.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the Department of Port Administration in American Samoa.

Issued in Hawthorne, California, on March 29, 2001.
Herman C. Bliss,
Manager, Airports Division, Western-Pacific Region.

[FR Doc. 01-9885 Filed 4-20-01; 8:45 am]

BILLING CODE 4910-13-M